DEPARTMENT OF COMMERCE

National Oceanic and Atmospheric Administration

RIN 0648-XA935

Fisheries of the Caribbean, Gulf of Mexico, and South Atlantic; Coral and Coral Reefs Off the Southern Atlantic States; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the South Carolina Aquarium. If granted, the EFP would authorize the South Carolina Aquarium to collect, with certain conditions, various species of reef fish, crabs, and lobsters in Federal waters off South Carolina and North Carolina. The specimens would be used in educational exhibits displaying South Carolina native species at the South Carolina Aquarium located in Charleston, SC.

DATES: Comments must be received no later than 5 p.m., e.t., on May 30, 2012.

ADDRESSES: You may submit comments on the application by either of the following methods:

• Email: Kate.Michie@noaa.gov; include in the subject line of the email comment the following document identifier: South Carolina Aquarium EFP.

• Mail: Kate Michie, Southeast Regional Office, NMFS, 263 13th Avenue South, St. Petersburg, FL 33701.

The application and related documents are available for review upon written request to any of the above addresses.

FOR FURTHER INFORMATION CONTACT: Kate Michie, 727-824-5305; email: Kate.Michie@noaa.gov.

SUPPLEMENTARY INFORMATION: The EFP is requested under the authority of the Magnuson-Stevens Fishery Conservation and Management Act (16 U.S.C. 1801 et seq.), and regulations at 50 CFR 600.745(b) concerning exempted fishing.

The proposed specimen collection involves activities otherwise prohibited by regulations at 50 CFR part 622, as they pertain to species managed by the South Atlantic Fishery Management Council (Council) including snapper-grouper, golden crab, wreckfish, coastal migratory pelagics, dolphin and wahoo, spiny lobster, and shrimp. The applicant requires authorization to collect 1,615 live fish, crabs, lobsters, and shrimp in Federal waters off South Carolina, and sporadically in Federal waters off North Carolina. The federally-managed species to be collected over a 5-year period, listed by common name with the collection total, include: Black snapper (10); cero (12); cobia (6); coney (10); dolphin (50); golden crab (5); graysby (10); groupers Epinephelus spp. including, misty, red hind, rock hind, snowy, yellowedge (40); groupers Myctoperca spp. including black grouper, gag, yellowmouth, yellowfin, and scamp (50); grunts Haemulon spp. including cottonwick, margate, sailors choice, Spanish, tomtate, and white grunt (250); hogfish (8); jacks (200); king mackerel (15); little tunny (25); longspine porgy (50); triggerfish (22); porgies (65); queen snapper (2); red porgy (25); scup (50); sea bass (100); white shrimp (200); pink and brown shrimp (200); gray snapper (75); Spanish mackerel (15); spiny lobster (25); vermilion snapper (75); wahoo (5); and yellowtail snapper (15).

The project proposes to use vertical hook-and-line gear with artificial and natural baits, black sea bass pots, spiny lobster traps, golden crab traps, habitat traps, octopus traps, dip nets, and bait traps (bait traps would be used and tended while SCUBA diving). This EFP would authorize sampling operations to be conducted on four vessels designated by the South Carolina Aquarium including: F/V ON THE CLOCK SC-5264-BW; F/V CUB SCOUT SC-9288-BF; F/V MISTRESS SC-5326-BS; and a 25 ft (7.62 m) Parker NC5836P. The specimens would be opportunistically collected year-round for a period of 5 years, commencing on July 2, 2012. This EFP would not authorize the collection of species with an annual catch limit of zero (red snapper, warsaw grouper, speckled hind, goliath grouper, and Nassau grouper).

The overall intent of the project is to incorporate South Carolina native species into educational exhibits at the South Carolina Aquarium. The aquarium uses these displays of native South Carolina species to teach the public about stewardship and habitat preservation.

NMFS finds this application warrants further consideration. Based on a preliminary review, NMFS intends to issue an EFP. Possible conditions the agency may impose on this permit, if it is granted, include but are not limited to, a prohibition of collection of specimens within marine protected areas, marine sanctuaries, special management zones, or artificial reefs without additional authorization. Additionally, NMFS prohibits the possession of Nassau grouper, goliath grouper, red snapper, speckled hind or warsaw grouper, and requires any sea turtles taken incidentally during the course of fishing or scientific research activities to be handled with due care to prevent injury to live specimens, observed for activity, and returned to the water.

A final decision on issuance of the EFP will depend on NMFS' review of public comments received on the application, consultations with the affected states, the Council, and the U.S. Coast Guard, as well as a determination that the EFP is consistent with all applicable laws.

Authority: 16 U.S.C. 1801 et seq.

Dated: April 25, 2012.
Emily H. Menashes,
Acting Director, Office of Sustainable Fisheries, National Marine Fisheries Service.

[FR Doc. 2012-10372 Filed 4-27-12; 8:45 am]

BILLING CODE 3510-22-P